DEPARTMENT OF COMMERCE

Foreign-Trade Zones Board

[B-59-2014]

Foreign-Trade Zone (FTZ) 90—Onondaga County, New York; Authorization of Proposed Production Activity; PPC Broadband, Inc.; Subzone 90C (Coaxial Jumper Cables); Dewitt, New York

On August 12, 2014, the Onondaga County Office of Economic Development, grantee of FTZ 90, submitted a notification of proposed production activity to the Foreign-Trade Zones (FTZ) Board on behalf of PPC Broadband, Inc., within Subzone 90C, in Dewitt, New York.

The notification was processed in accordance with the regulations of the FTZ Board (15 CFR part 400) including notice in the Federal Register inviting public comment (79 FR 51138, August 27, 2014). The FTZ Board has determined that no further review of the activity is warranted at this time. The production activity described in the notification is authorized, subject to the FTZ Act and the Board's regulations, including Section 400.14.

Dated: December 10, 2014.
Andrew McGilvray,
Executive Secretary.

[FR Doc. 2014-29383 Filed 12-15-14; 8:45 am]

BILLING CODE 3510-DS-P